DEPARTMENT OF COMMERCE

National Oceanic and Atmospheric Administration

[I.D. 022500D]

North Carolina and Louisiana Commercial King and/or Spanish Mackerel Fishermen Pilot Economic Survey

AGENCY: National Oceanic and Atmospheric Administration (NOAA).

ACTION: Proposed Collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 1, 2000.

ADDRESSES: Direct all written comments to Linda Engelmeier, Departmental Forms Clearance Officer, Department of Commerce, Room 507, 14th and Constitution Avenue NW, Washington DC 20230 (or via the Internet at LEngelme@doc.gov).

FOR FURTHER INFORMATION CONTACT: Requests for additional information or copies of the information collection instrument(s) and instructions should be directed to John Vondruska, Department of Commerce, NCAA, National Marine Fisheries Service, Fisheries Economics Office, 9721 Executive Center Drive N., St. Petersburg, FL 33702.

SUPPLEMENTARY INFORMATION:

I. Abstract

The North Carolina and Louisiana Commercial King and/or Spanish Mackerel Fishermen Pilot Economic Survey will consist of telephone screening with in-person interviews of commercial fishermen in North Carolina and Louisiana possessing Federal commercial mackerel fishing permits. The survey will provide NMFS with economic information to better estimate the effects of regulations proposed for the King and Spanish mackerel commercial fisheries. The survey will also provide a better basis for designing statistically-random surveys for other strata of the population of boats that engage in these and other fisheries in a seasonally-complex round of economic activity throughout the Southeast (coastal states from North Carolina to Texas). Monitoring of these fisheries is required under the Magnuson-Stevens Fishery Conservation and Management Act.

II. Method of Collection

The information sought will be collected through telephone screener interviews and in-person data collection. The frame of vessels in North Carolina and Louisiana holding Federal commercial mackerel fishing permits will be randomly sampled (separately by state).

III. Data

OMB Number: None.

Form Number: None.

Type of Review: Regular submission.

Affected Public: Business or other for-profit organizations (commercial mackerel fishermen in North Carolina and Louisiana).

Estimated Number of Respondents: 103.

Estimated Time Per Response: Average response times are estimated at 12 minutes per telephone screening interview, 15 minutes per captain interview, 20 minutes per owner interview, and 45 minutes (15 minutes x 3 times) per typical trip interview for a total time of 92 minutes per respondent.

Estimated Total Annual Burden Hours: 160 hours.

Estimated Total Annual Cost to Public: $0 (no capital expenditures).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 24, 2000
Linda Engelmeier,
Departmental Forms Clearance Officer, Office of the Chief Information Officer.

[FR Doc. 00-5064 Filed 3-1-00; 8:45 am]

BILLING CODE 3510-22-F